DEPARTMENT OF THE INTERIOR

Bureau of Land Management

[LLAZ920000.19X.L51010000.ER0000.LVRWA19A3240]

Notice of Availability of the Record of Decision for the Ten West Link 500 Kilovolt Transmission Line Project and Land Use Plan Amendments to the Yuma Field Office Resource Management Plan and the California Desert Conservation Area Plan; Maricopa and La Paz Counties, Arizona, and Riverside County, California

AGENCY: Bureau of Land Management, Interior.

ACTION: Notice of availability.

SUMMARY: The Bureau of Land Management (BLM) announces the availability of the Record of Decision (ROD) for the Ten West Link 500 Kilovolt Transmission Line Project and approved Resource Management Plan Amendments for the Yuma Field Office Resource Management Plan (RMP) and the California Desert Conservation Area (CDCA) Plan. The BLM Arizona and California State Directors signed the ROD on November 21, 2019. This constitutes the final decision of the BLM for the approved land use plan amendments and makes them effective immediately.

ADDRESSES: Interested persons may review the ROD on the project website at: https://go.usa.gov/xU6Be. Copies of the ROD are available for public review upon request from the BLM Yuma Field Office, 7341 East 30th Street, Suite A, Yuma, AZ 85365, the BLM Arizona State Office, One North Central Avenue, Suite 800, Phoenix, AZ 85004, and the BLM Palm Springs-South Coast Field Office, 1201 Bird Center Drive, Palm Springs, CA 92262.

FOR FURTHER INFORMATION CONTACT: Lane Cowger, Project Manager, telephone: 602-417-9612; address: BLM, Arizona State Office, One North Central Avenue, Suite 800, Phoenix, AZ 85004; email: blm_az_azso_10westlink@blm.gov. Persons who use a telecommunications device for the deaf (TDD) may call the Federal Relay Service (FRS) at 1-800-877-8339 to contact Mr. Cowger. The FRS is available 24 hours a day, 7 days a week, to leave a message or question with Mr. Cowger. You will receive a reply during normal business hours.

SUPPLEMENTARY INFORMATION: DCR Transmission submitted a request for a right-of-way (ROW) across public land to construct, operate, maintain, and decommission a 500 kilovolt (kV) transmission line between the Arizona Public Service Delaney substation near Tonopah, in Maricopa County, Arizona, and the Southern California Edison Colorado River Substation near Blythe in Riverside County, California. Portions of the Proposed Action and/or Action Alternatives were not in conformance with the Yuma RMP and the CDCA Plan. Therefore, the BLM considered amending these plans in connection with its consideration of the DCR Transmission ROW application.

The BLM analyzed impacts from the proposed ROW project and associated plan amendments in the Final Environmental Impact Statement (EIS) for the proposed Ten West Link 500 Kilovolt Transmission Line Project and proposed Amendments to the Yuma Field Office RMP and the CDCA Plan released on September 13, 2019. Based on the environmental analysis and input from stakeholders, cooperating agencies, and tribes, the BLM has identified the 125-mile Agency Preferred Alternative described in the Final EIS as the Selected Alternative in the ROD. The Selected Alternative will allow authorization of a ROW grant to the Applicant to use public land administered by the BLM for the Project for 50 years.

The Selected Alternative includes an amendment to the Yuma RMP to allow consideration of ROWs outside of designated BLM utility corridors based on project-specific analysis. The Selected Alternative also includes an amendment to the CDCA Plan to allow construction of the Ten West Link project, within 0.25-mile of occurrences of Harwood's eriastrum, a BLM-identified sensitive plant species.

Publication of the Notice of Availability of the Final EIS and Proposed Plan Amendments initiated a 30-day protest period for the plan amendments, which concluded on October 15, 2019. Simultaneously with the protest period, the Governors of Arizona and California conducted a 60-day consistency review of the Final EIS and Proposed land use plan amendments to identify any inconsistencies with State or local plans, policies, or programs.

During the 30-day protest period, the BLM Director received two protest letters. All protests were resolved prior to the issuance of the ROD. No comments regarding potential inconsistencies with State and local plans, programs, and policies were received from the Arizona or California Governor's Offices.

An errata sheet has been prepared to make minor corrections and clarifications to information presented in the Final EIS. This is included as an attachment to the ROD.

The decision to issue a ROW grant may be appealed to the Interior Board of Land Appeals (IBLA), Office of the Secretary, in accordance with regulations contained in 43 CFR, Part 4 and Form 1842-1. If an appeal is taken, your notice of appeal must be filed within 30 days from receipt of this decision. The appellant has the burden of showing the decision appealed is in error.

(Authority: 40 CFR 1506.6, 40 CFR 1506.10, 43 CFR 1610.2, 43 CFR 1610.5)

Raymond Suazo,
State Director.

[FR Doc. 2019-26211 Filed 12-3-19; 8:45 am]

BILLING CODE 4310-32-P